DEPARTMENT OF ENERGY

Federal Energy Regulatory Commission

[Project No. 11480-024]

Haida Energy, Inc.; Notice of Application for Amendment of License and Soliciting Comments, Motions To Intervene, and Protests

September 13, 2010.

Take notice that the following hydroelectric application has been filed with the Commission and is available for public inspection:

a. Application Type: Amendment of License.

b. Project No.: 11480-024.

c. Date Filed: August 31, 2010.

d. Applicant: Haida Energy, Inc.

e. Name of Project: Reynolds Creek Project.

f. Location: On Reynolds Creek, near the town of Hydaburg, Alaska.

g. Filed Pursuant to: Federal Power Act, 16 U.S.C. 791(a)-825(r).

h. Applicant Contact: Mr. Michael V. Stimac, Vice President, HDR Engineering, Inc., 500 108th Avenue, NE., Suite 1200, Bellevue, WA 98004, (425) 450-6330.

i. FERC Contact: Steven Sachs, (202) 502-8666, or Steven.Sachs@ferc.gov.

j. Deadline for filing comments, motions to intervene, and protests: September 30, 2010.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street, NE., Washington, DC 20426. Please include the project number (P-11480-024) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: In its amendment application, the licensee proposes to modify the following at its unconstructed project: (1) Utilize a fish screen on the penstock intake; (2) alter approximately 1,500 feet of the western portion of the penstock route resulting in a straightened alignment; (3) move the location of the powerhouse about 300 feet to the northwest; (4) modify the tailrace to consist of a 380-foot-long, 54-inch-diameter pipe discharging to the same location as the previously licensed tailrace; and (5) extend the length of the transmission line about one mile to the town of Hydaburg. The licensee proposes no change to the installed capacity or operation of the project.

l. Locations of the Application: A copy of the application is available for inspection and reproduction at the Commission's Public Reference Room, located at 888 First Street, NE, Room 2A, Washington, DC 20426, or by calling (202) 502-8371. This filing may also be viewed on the Commission's Web site using the “eLibrary” link at http://elibrary.ferc.gov/idmws/search/fercgensearch.asp. Enter the docket number excluding the last three digits (P-11480) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-23366 Filed 9-17-10; 8:45 am]

BILLING CODE 6717-01-P